FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 008493-030.

Title: Trans-Pacific American Flag Berth Operators Agreement.

Parties: American President Lines, Ltd., and A.P. Moller-Maersk A/S.

Filing Party: Howard A. Levy, Esq.; 120 Wall Street, Suite 2020; New York, NY 10005-4001.

Synopsis: The Amendment would replace A.P. Moller-Maersk A/S with Maersk Line A/S.

Agreement No.: 010050-021.

Title: U.S. Flag Discussion Agreement.

Parties: American President Lines, Ltd.; APL Co. PTE Ltd.; A.P. Moller-Maersk A/S; Hapag-Lloyd USA, LLC; and Hapag-Lloyd AG.

Filing Party: Wayne Rohde, Esq.; Cozen O'Connor; 1627 I Street NW., Suite 1100; Washington, DC 20006.

Synopsis: The Amendment would replace A.P. Moller-Maersk A/S with Maersk Line A/S and correct the address of APL Co. Pte Ltd.

Agreement No.: 010051-039.

Title: Mediterranean Space Charter Agreement.

Parties: Hapag-Lloyd USA LLC; A.P. Moller-Maersk A/S; Mediterranean Shipping Company, S.A.; Hapag-Lloyd AG; and Zim Integrated Shipping Services, Ltd.

Filing Party: Wayne R. Rohde, Esq.; Cozen O'Connor; 1627 I Street NW., Suite 1100; Washington, DC 20006.

Synopsis: The Amendment would replace A.P. Moller-Maersk A/S with Maersk Line A/S.

Agreement No.: 010714-046.

Title: Trans-Atlantic American Flag Liner Operators Agreement.

Parties: A.P. Moller Maersk A/S; American President Lines, Ltd.; American Roll-On Roll-Off Carrier, LLC; Hapag-Lloyd USA, LLC.; and Maersk Line Limited.

Filing Party: Howard A. Levy, Esq.; 80 Wall Street, Suite 1117; New York, NY 10005.

Synopsis: The Amendment would replace A.P. Moller-Maersk A/S with Maersk Line A/S.

Agreement No.: 011223-051.

Title: Transpacific Stabilization Agreement.

Parties: American President Lines, Ltd. and APL Co. PTE Ltd.; (operating as a single carrier); A.P. Moller-Maersk A/S trading as Maersk Line; China Shipping Container Lines (Hong Kong) Company Limited and China Shipping Container Lines Company Limited (operating as a single carrier); CMA CGM, S.A.; COSCO Container Lines Company Ltd; Evergreen Line Joint Service Agreement; Hanjin Shipping Co., Ltd.; Hapag-Lloyd AG; Hyundai Merchant Marine Co., Ltd.; Kawasaki Kisen Kaisha Ltd.; Mediterranean Shipping Company; Nippon Yusen Kaisha; Orient Overseas Container Line Limited; Yangming Marine Transport Corp.; and Zim Integrated Shipping Services, Ltd.

Filing Party: David F. Smith, Esq.; Cozen O'Connor; 6271 I Street NW., Suite 1100; Washington, DC 20006.

Synopsis: The Amendment would make several changes to Appendix A of the Agreement updating the names or corporate addresses of several parties.

Agreement No.: 011275-036.

Title: Australia and New Zealand-United States Discussion Agreement.

Parties: A.P. Moller-Maersk AS, trading under the name Maersk Line; CMA CGM, S.A./ANL Singapore Pte Ltd. (acting as a single party); Hamburg-Süd KG; Hapag-Lloyd AG; and Mediterranean Shipping Company S.A.

Filing Party: Wayne R. Rohde, Esq.; Cozen O'Connor LLP; 1627 I Street NW., Suite 1100; Washington, DC 20006-4007.

Synopsis: The Amendment would replace A.P. Moller-Maersk A/S with Maersk Line A/S.

Agreement No.: 011284-073.

Title: Ocean Carrier Equipment Management Association Agreement.

Parties: Alianca Navegacao e Logistica Ltda.; APL Co. Pte Ltd.; American President Lines, Ltd.; A.P. Moller-Maersk A/S; CMA CGM, S.A.; Atlantic Container Line; China Shipping Container Lines Co., Ltd; China Shipping Container Lines (Hong Kong) Co., Ltd.; Companhia Libra de Navegacao; Compania Libra de Navegacion Uruguay S.A.; Compania Sud Americana de Vapores, S.A.; COSCO Container Lines Company Limited; Evergreen Line Joint Service Agreement; Hamburg-Süd; Hapag-Lloyd AG; Hapag-Lloyd USA LLC; Hanjin Shipping Co., Ltd.; Hyundai Merchant Marine Co. Ltd.; Kawasaki Kisen Kaisha, Ltd.; Mediterranean Shipping Company, S.A.; Mitsui O.S.K. Lines Ltd.; Nippon Yusen Kaisha Line; Norasia Container Lines Limited; Orient Overseas Container Line Limited; Yang Ming Marine Transport Corp.; and Zim Integrated Shipping Services, Ltd.

Filing Party: Wayne R. Rohde, Esq. and Donald J. Kassilke, Esq.; Cozen O'Connor; 1627 I Street NW., Suite 1100; Washington, DC 20006.

Synopsis: The Amendment would replace A.P. Moller-Maersk A/S with Maersk Line A/S, make changes to Article 6.3, and update the address of APL Co. Pte Ltd.

Agreement No.: 011290-040.

Title: International Vessel Operators Dangerous Goods Association Agreement.

Parties: Aliança Navegacao e Logistica Ltda.; APL Co. PTE Ltd.; A.P. Moller-Maersk A/S; Atlantic Container Line AB; Bermuda Container Line; China Shipping Container Lines Co., Ltd.; COSCO Container Lines Company Limited; Crowley Maritime Corporation; Evergreen Marine Corp. (Taiwan) Ltd.; Hamburg-Südamerikanische Dampfschifffahrts-Gesellschaft KG; Hanjin Shipping Co., Ltd.; Hapag-Lloyd AG; Horizon Lines, LLC; Hyundai Merchant Marine Co., Ltd.; Independent Container Line Ltd.; Kawasaki Kisen Kaisha Ltd.; Marine Transport Management, Inc.; Maruba SCA; Matson Navigation Company; Mitsui O.S.K. Lines, Ltd.; National Shipping Co. of Saudi Arabia; Nippon Yusen Kaisha Line; Orient Overseas Container Line Limited; Safmarine Container Lines; Seaboard Marine Ltd.; Senator Lines GmbH; Tropical Shipping & Construction Co., Ltd.; Yang Ming Marine Transport Corp.; and Zim Integrated Shipping Services, Ltd.

Filing Party: Wayne R. Rohde, Esq.; Cozen O'Connor; 1627 I Street NW., Suite 1100; Washington, DC 20006.

Synopsis: The Amendment would replace A.P. Moller-Maersk A/S with Maersk Line A/S, delete Safmarine Container Lines as a party, and revise the addresses of three other parties.

Agreement No.: 011346-024.

Title: Israel Carrier Association.

Parties: A.P. Moller-Maersk A/S trading under the name Maersk Line; American President Lines, Ltd.; and Zim Integrated Shipping Services, Ltd.

Filing Party: Wayne R. Rohde, Esq.; Cozen O'Connor; 1627 I Street NW., Suite 1100; Washington, DC 20006.

Synopsis: The Amendment would replace A.P. Moller-Maersk A/S with Maersk Line A/S.

Agreement No.: 011405-023.

Title: Ocean Carrier Working Group Agreement.

Parties: Israel Trade Conference; Transpacific Stabilization Agreement; United States Australasia Discussion Agreement; Westbound Transpacific Stabilization Agreement; Middle East Indian Subcontinent Discussion Agreement; A.P. Moller-Maersk A/S; Evergreen Joint Service Agreement; King Ocean Service de Venezuela, S.A.; Star Shipping A/S; Tropical Shipping & Construction Company, Limited; Wallenius Wilhelmsen Logistics AS; Zim Integrated Shipping Services, Ltd.; and Hapag-Lloyd AG.

Filing Party: Wayne R. Rohde, Esq.; Cozen O'Connor; 1627 I Street NW., Suite 1100; Washington, DC 20006.

Synopsis: The Amendment would update the membership of the Agreement and the membership of its constituent agreements.

Agreement No.: 011733-035.

Title: Common Ocean Carrier Platform Agreement.

Parties: A.P. Moller-Maersk A/S; CMA CGM; Hamburg-Süd; Hapag-Lloyd AG; Mediterranean Shipping Company S.A.; and United Arab Shipping Company (S.A.G.) as shareholder parties, and American President Lines, Ltd., APL Co., Pte Ltd.; Alianca Navegacao e Logistica Ltda.; China Shipping Container Lines Company Limited; Compania Chilena de Navegacion Interoceanica S.A.; Compania Sud Americana de Vapores, S.A.; Companhia Libra de Navegacao; COSCO Container Lines Co., Ltd.; Emirates Shipping Lines; Evergreen Line Joint Service Agreement; Gold Star Line, Ltd.; Hanjin Shipping Co., Ltd.; Hyundai Merchant Marine Co. Ltd; Industrial Maritime Carriers, LLC; Kawasaki Kisen Kaisha, Ltd.; MISC Berhad; Mitsui O.S.K. lines Ltd.; Nippon Yusen Kaisha; Norasia Container Lines Limited; Safmarine MPV N.V.; Tasman Orient Line C.V.; U.S. Ocean, LLC; Yang Ming Marine Transport Corporation and Zim Integrated Shipping Services, Ltd. as non-shareholder parties.

Filing Party: Wayne R. Rohde, Esq.; Cozen O'Connor; 1627 I Street NW., Suite 1100; Washington, DC 20006.

Synopsis: The Amendment would replace A.P. Moller-Maersk A/S with Maersk Line A/S.

Agreement No.: 011928-008.

Title: Maersk Line/HLAG Slot Charter Agreement.

Parties: A.P. Moller-Maersk A/S and Hapag-Lloyd AG.

Filing Party: Wayne Rohde, Esq.; Cozen O'Connor; 1627 I Street NW., Suite 1100; Washington, DC 20006.

Synopsis: The Amendment would replace A.P. Moller-Maersk A/S with Maersk Line A/S.

Agreement No.: 011961-018.

Title: The Maritime Credit Agreement.

Parties: A.P. Moller-Maersk A/S trading under the name of Maersk Line; China Shipping Container Lines Co., Ltd.; Companhia Libra de Navegacao; Compania Libra de Navegacion Uruguay S.A.; Compania Sud Americana de Vapores, S.A.; COSCO Container Lines Company Limited; Dole Ocean Cargo Express; Hanjin Shipping Co., Ltd.; Independent Container Line Ltd.; Kawasaki Kisen Kaisha, Ltd.; Norasia Container Lines Limited; United Arab Shipping Company (S.A.G.); Wallenius Wilhelmsen Logistics AS; Zim Integrated Shipping Services, Ltd.

Filing Party: Wayne R. Rohde, Esq.; Cozen O'Connor; 1627 I Street NW., Suite 1100; Washington, DC 20006.

Synopsis: The Amendment would replace A.P. Moller-Maersk A/S with Maersk Line A/S.

Agreement No.: 011962-012.

Title: Consolidated Chassis Management Pool Agreement.

Parties: The Ocean Carrier Equipment Management Association and its member lines; the Association's subsidiary Consolidated Chassis Management LLC and its affiliates; CCM Holdings LLC; CCM Pools LLC and its subsidiaries; Matson Navigation Co.; and Westwood Shipping Lines.

Filing Party: Wayne Rohde, Esq.; Cozen O'Connor; 627 I Street NW., Suite 1100; Washington, DC 20006.

Synopsis: The Amendment would replace A.P. Moller-Maersk A/S with Maersk Line A/S and correct the address of APL Co. Pte Ltd.

Agreement No.: 012027-001.

Title: The Hoegh/Maersk Ancillary Agreement.

Parties: Aequitas Holdings A/S; A.P. Moller-Maersk A/S; and Hoegh Autoliners A/S.

Filing Party: Wayne Rohde, Esq.; Cozen O'Connor; 627 I Street NW., Suite 1100; Washington, DC 20006.

Synopsis: The Amendment would replace A.P. Moller-Maersk A/S with Maersk Line A/S.

Agreement No.: 012034-006.

Title: Hamburg Sud/Maersk Line Vessel Sharing Agreement.

Parties: Hamburg-Sud and A.P. Moeller-Maersk A/S.

Filing Party: Wayne Rohde, Esq.; Cozen O'Connor; 1627 I Street NW., Suite 1100; Washington, DC 20006.

Synopsis: The Amendment would replace A.P. Moller-Maersk A/S with Maersk Line A/S.

Agreement No.: 012108-004.

Title: The World Liner Data Agreement.

Parties: ANL Container Line Pty Ltd.; A.P. Moller-Maersk A/S; CMA CGM S.A.; Compania Chilena de Navegacion Interoceanica S.A.; Compania Sud Americana de Vapores S.A.; Evergreen Line Joint Service Agreement; Hamburg-Sud; Hapag-Lloyd AG; Hanjin Shipping Company, Ltd; Hyundai Merchant Marine Co., Ltd.; Independent Container Line Ltd.; Mediterranean Shipping Company S.A.; Orient Overseas Container Line Ltd.; Turkon Konteyner Tasimacilik ve Denizcilik A.S.; United Arab Shipping Company S.A.G.; and ZIM Integrated Shipping Services Limited.

Filing Party: Wayne Rohde, Esq.; Cozen O'Connor; 627 I Street NW., Suite 1100; Washington, DC 20006.

Synopsis: The Amendment would replace A.P. Moller-Maersk A/S with Maersk Line A/S.

Agreement No.: 012128-003

Title: Southern Africa Agreement

Parties: A.P. Moller-Maersk A/S trading under the name Maersk Line, and MSC Mediterranean Shipping Company S.A.

Filing Party: Wayne R. Rohde, Esquire; Cozen O'Connor; 1627 I Street NW., Suite 1100; Washington, DC 20006-4007.

Synopsis: The Amendment would replace A.P. Moller-Maersk A/S with Maersk Line A/S.

Agreement No.: 012136-001.

Title: HSDG/ML/MSC Space Charter Agreement.

Parties: Hamburg-Sud, A.P. Moller-Maersk A/S, and MSC Mediterranean Shipping Company S.A.

Filing Parties: Wayne R. Rohde, Esq.; Cozen O'Connor; 1627 I Street NW., Suite 1100; Washington, DC 20006-4007.

Synopsis: The Amendment would replace A.P. Moller-Maersk A/S with Maersk Line A/S and update MSC's address.

Agreement No.: 012172-002.

Title: Maersk Line/MSC Caribbean Space Charter Agreement.

Parties: A.P. Moller-Maersk A/S trading under the name Maersk Line and Mediterranean Shipping Company S.A.

Filing Party: Wayne R. Rohde, Esquire; Cozen O'Connor; 1627 I Street NW., Suite 1100; Washington, DC 20006-4007.

Synopsis: The Amendment would replace A.P. Moller-Maersk A/S with Maersk Line A/S and update the contact information for MSC.

Agreement No.: 012242-001.

Title: Maersk Line/CMA CGM OC-1 PAD2 Space Charter Agreement.

Parties: A.P. Moller-Maersk A/S trading under the name of Maersk Line and CMA CGM S.A.

Filing Party: Wayne R. Rohde, Esq.; Cozen O'Connor; 1627 I Street NW., Suite 1100; Washington, DC 20006.

Synopsis: The Amendment would replace A.P. Moller-Maersk A/S with Maersk Line A/S.

Agreement No.: 012267-001.

Title: COSCON/CSCL Vessel Sharing and Slot Exchange Agreement.

Parties: China Shipping Container Lines Co., Ltd. and China Shipping Container Lines (Hong Kong) Co. Ltd. (collectively CSCL); COSCO Container Lines Company Limited.

Filing Party: Brett M. Esber, Esq.; Blank Rome, LLP; Watergate, 600 New Hampshire Avenue NW., Washington, DC 20037.

Synopsis: The Amendment clarifies the authority of the parties to exchange and charter slots between themselves on vessels operated by a party (including the vessels operated in the service established pursuant to the Agreement), or from space controlled by a party on vessels operated by third parties, in the trade covered by the Agreement.

Agreement No.: 012291-001.

Title: Maersk Line/MSC WCCA Space Charter Agreement.

Parties: A.P. Moller-Maersk A/S trading under the name of Maersk Line; and MSC Mediterranean Shipping Company S.A.

Filing Party: Wayne Rohde, Esq.; Cozen O'Connor; 1627 I Street NW., Suite 1100; Washington, DC 20006.

Synopsis: The Amendment would replace A.P. Moller-Maersk A/S with Maersk Line A/S and update MSC's address.

Agreement No.: 012293-003.

Title: Maersk/MSC Vessel Sharing Agreement.

Parties: A.P. Moller-Maersk A/S trading under the name of Maersk Line; and MSC Mediterranean Shipping Company S.A.

Filing Party: Wayne Rohde, Esq.; Cozen O'Connor; 1627 I Street NW., Suite 1100; Washington, DC 20006.

Synopsis: The Amendment would replace A.P. Moller-Maersk A/S with Maersk Line A/S.

By Order of the Federal Maritime Commission.
Dated: December 24, 2014.
Karen V. Gregory,
Secretary.

[FR Doc. 2014-30605 Filed 12-30-14; 8:45 am]

BILLING CODE 6730-01-P